ENVIRONMENTAL PROTECTION AGENCY

[FRL-6964-7]

National Advisory Council for Environmental Policy and Technology, (NACEPT) Standing Committee on Compliance Assistance

AGENCY: Environmental Protection Agency (EPA).

ACTION: Notification of public advisory NACEPT standing committee on compliance assistance meeting; open meeting.

SUMMARY: Pursuant to the Federal Advisory Committee Act, Public Law 92-463, notice is hereby given that the Standing Committee on Compliance Assistance will meet on the date and time described below. The meeting is open to the public. Seating at the meeting will be a first-come basis and limited time will be provided for public comment. For further information concerning this meeting, please contact the individual listed with the announcement below. National Advisory Council for Environmental Policy and Technology (NACEPT) Standing Committee on Compliance Assistance; May 2-3, 2001. Notice is hereby given that the U.S. Environmental Protection Agency (EPA) will hold an open meeting of the NACEPT Standing Committee on Compliance Assistance on Tuesday, May 2, 2001 from 8:30 a.m. to 5 p.m., and Wednesday May 3, 2001 from 8:30 a.m.-4:00 p.m. The meeting will be held at the AUSA building on 2425 Wilson Blvd Arlington, VA, 22201. The agenda for both days of the meeting will be focused primarily on drafting recommendations to the EPA Administrator on compliance assistance (CA) policy issues, including integrating CA into EPA's mission, CA measurement and CA tool development and delivery. A formal agenda will be available at the meeting.

SUPPLEMENTARY INFORMATION: NACEPT is a federal advisory committee under the Federal Advisory Committee Act, Public Law 92-463. NACEPT provides advice and recommendations to the EPA Administrator and other EPA officials on a broad range of domestic and international environmental policy issues. NACEPT consists of a representative cross-section of EPA's partners and principal constituents who provide advice and recommendations on policy issues and serve as a sounding board for new strategies. Over the last two years, EPA has undertaken a number of actions to improve our compliance assistance activities. To ensure that the Agency efforts to improve compliance assistance are implemented in a way that continues to reflect stakeholder needs, NACEPT created a new Standing Committee on Compliance Assistance. This will provide a continuing Federal Advisory Committee forum from which the EPA can continue to receive valuable stakeholder advice and recommendations on compliance assistance activities.

For further information concerning the NACEPT Standing Committee on Compliance Assistance, including the upcoming meeting, contact Joanne Berman, Designated Federal Officer (DFO), on (202) 564-7064, or E-mail: berman.joanne@epa.gov.

INSPECTION OF SUBCOMMITTEE DOCUMENTS: Documents relating to the above topics will be publicly available at the meeting.

Dated: April 2, 2001.
Jonathan Binder,
Acting Designated Federal Officer.

[FR Doc. 01-8803 Filed 4-9-01; 8:45 am]

BILLING CODE 6560-50-P